DEPARTMENT OF HEALTH AND HUMAN SERVICES

Centers for Disease Control and Prevention

Health Resources and Services Administration

CDC/HRSA Advisory Committee on HIV, Viral Hepatitis and STD Prevention and Treatment

In accordance with section 10(a)(2) of the Federal Advisory Committee Act (Pub. L. 92-463), the Centers for Disease Control and Prevention (CDC) and the Health Resources and Services Administration (HRSA) announce the following committee meeting.

Times and Dates: 8:30 a.m.-5:00 p.m., EDT, May 10, 2017; 8:30 a.m.-3:00 p.m., EDT, May 11, 2017.

Place: CDC Corporate Square, Building 8, Conference Room 1-ABC, 8 Corporate Boulevard, Atlanta, Georgia 30329, Telephone: (404) 639-8317. The meeting is also accessible by teleconference. Toll-free number 1-877-603-4228, Participant code: 42598858.

Status: Open to the public, limited only by the space available. The meeting room will accommodate approximately 100 people. Persons who desire to make an oral statement, may request it at the time of the public comment period on May 10, 2017 at 4:30 p.m., EDT. Public participation and ability to comment will be limited to space and time as it permits.

Purpose: This committee is charged with advising the Director, CDC and the Administrator, HRSA, regarding activities related to prevention and control of HIV/AIDS, Viral Hepatitis and other STDs, the support of health care services to persons living with HIV/AIDS, and education of health professionals and the public about HIV/AIDS, Viral Hepatitis and other STDs.

Matters for Discussion: Agenda items include the following topics: (1) HIV transmission risk in the context of viral suppression and antiretroviral therapy (ART) use; (2) Update on Pre-Exposure Prophylaxis (PrEP) utilization; (3) Vulnerable youth at risk for HIV, STDs, hepatitis, substance use and other health outcomes; (4) Eliminating hepatitis B and hepatitis C as public health threats in the United States—Setting Goals and Taking Action; and (5) Updates from Workgroups. Agenda items are subject to change as priorities dictate.

Contact Person for More Information: Margie Scott-Cseh, Centers for Disease Control and Prevention, 1600 Clifton Road NE., Mailstop E-07, Atlanta, Georgia 30329, telephone (404) 639-8317; Email: zkr7@cdc.gov.

The Director, Management Analysis and Services Office, has been delegated the authority to sign Federal Register Notices pertaining to announcements of meetings and other committee management activities, for both the Centers for Disease Control and Prevention and the Agency for Toxic Substances and Disease Registry.

Elaine L. Baker,
Director, Management Analysis and Services Office, Centers for Disease Control and Prevention.

[FR Doc. 2017-07593 Filed 4-13-17; 8:45 am]

BILLING CODE 4163-18-P